DEPARTMENT OF ENERGY

Federal Energy Regulatory Commission

[Docket No. CP06-369-000]

Straight Creek Gathering, LP; Notice of Petition

June 9, 2006.

Take notice that on May 30, 2006, Straight Creek Gathering, LP (Straight Creek), 11251 Northwest Freeway, Suite 400, Houston, Texas 77092, filed in Docket No. CP06-369-000, a petition for a declaratory order pursuant to Rule 207 of the Commission's Rules and Regulations (18 CFR 385.207) holding that certain facilities proposed for construction in Floyd, Johnson, Lawrence, Carter, Magoffin, Elliot, Martin, and Pike Counties, Kentucky will be gathering facilities exempt from the Commission's jurisdiction pursuant to section 1(b) of the Natural Gas Act (NGA). Alternatively, Straight Creek requests that the Commission declare that the facilities will be non-jurisdictional pursuant to section 1(b) of the NGA, and issue a limited-term, limited-jurisdictional certificate to permit Straight Creek to receive gas from Columbia Gas Transmission Company until Straight Creek can construct its own gathering lateral line into the supply area, all as more fully set forth in the application which is on file with the Commission and open for public inspection. This filing is accessible on-line at http://www.ferc.gov, using the “library” link and is available for review in the Commission's Public Reference Room in Washington, DC. There is a “subscription” link on the Web site that enables subscribers to receive e-mail notification when a document is added to a subscribed docket(s). For assistance with any FERC Online service, please e-mail FERCOnlineSupport@ferc.gov, or call (866) 208-3676 (toll free). For TTY, call (202) 502-8659.

Any questions regarding this application should be directed to counsel for Straight Creek, Michael J. Manning or Glenn S. Benson, Fulbright & Jaworski, L.L.P., at 801 Pennsylvania Avenue, NW., Washington, DC 20004; or (202) 662-4550 (Michael Manning) or (202) 662-4589 (Glenn Benson), or by fax at (202) 662-4643.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “defiling” link at http://www.ferc.gov. Persons unable to file electronically should submit original and 14 copies of the protest or intervention to the Federal Energy Regulatory Commission, 888 First Street, NE., Washington, DC 20426.

Motions to intervene, protests and comments may be filed electronically via the Internet in lieu of paper; see, 18 CFR 385.2001(a)(1)(iii) and the instructions on the Commission's Web site under the “e-Filing” link. The Commission strongly encourages electronic filings.

Comment Date: June 30, 2006.

Magalie R. Salas,
Secretary.

[FR Doc. E6-9387 Filed 6-15-06; 8:45 am]

BILLING CODE 6717-01-P